NATIONAL AERONAUTICS AND SPACE ADMINISTRATION

[Notice (00-023)]

Centennial of Flight Commission

AGENCY: National Aeronautics and Space Administration.

ACTION: Notice of Meeting.

SUMMARY: In accordance with the Federal Advisory Committee Act, Pub. L. 92-463, as amended, the National Aeronautics and Space Administration announces a meeting of the Centennial of Flight Commission.

DATES: Tuesday, March 21, 2000, 9:00 a.m. to 11:00 a.m.

ADDRESSES: Smithsonian National Air and Space Museum, 7th and Independence Avenue, SW, Director's Conference Room, 3rd Floor, Washington, DC 20560. Attendees must check in at the Information Desk to be cleared to the 3rd floor.

FOR FURTHER INFORMATION CONTACT: Ms. Beverly Farmarco, Code Z, National Aeronautics and Space Administration, Washington, DC 20546, 202/358-1903.

SUPPLEMENTARY INFORMATION: The meeting will be open to the public up to the seating capacity of the room. The agenda for the meeting is as follows:

—Welcome and Introductions

—Election of Permanent Chair

—Review of Statutory Commission Duties, Identify short term and long term priorities

—Selection of Logo

—Selection of Website Design

—Action on Advisory Board

—Adjourn

It is imperative that the meeting be held on these dates to accommodate the scheduling priorities of the key participants. Visitors will be requested to sign a visitor's register.

Dated: February 24, 2000.
Matthew M. Crouch,
Advisory Committee Management Officer, National Aeronautics and Space Administration.

[FR Doc. 00-4813 Filed 2-28-00; 8:45 am]

BILLING CODE 7510-01-P